DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia this 22nd day of August 2005.
Rebecca J. Smith,
Acting Director, Office of Standards, Regulations, and Variances.

Affirmative Decisions on Petitions for Modification

Docket No.: M-2004-049-C.

FR Notice: 69 FR 71434.

Petitioner: Consolidation Coal Company.

Regulation Affected: 30 CFR 75.507.

Summary of Findings: Petitioner's proposal is to use non-permissible submersible pumps in bleeder and return entries and sealed areas of the Loveridge No. 22 Mine under specific terms and conditions. This is considered an acceptable alternative method for the Loveridge No. 22 Mine. MSHA grants the petition for modification for the use of low- and medium-voltage, three-phase, alternating-current submersible pump(s) installed in return and bleeder entries and sealed areas in the Loveridge No. 22 Mine with conditions.

Docket No.: M-2005-003-C.

FR Notice: 70 FR 7760.

Petitioner: Mississippi Lignite Mining Company.

Regulation Affected: 30 CFR 77.803.

Summary of Findings: Petitioner's proposal is to use an alternative method of compliance when raising or lowering the boom mast at construction sites during initial dragline assembly, and in instances of disassembly or major repairs. The petitioner lists specific guidelines that will be used to minimize the potential for electrical power loss during the boom procedure. This is considered an acceptable alternative method for the Red Hills Mine. MSHA grants the petition for modification for dragline boom or mast raising, lowering, assembling, disassembling, or during major repairs that require raising or lowering the dragline boom or mast by the on-board generators at the Red Hills Mine with conditions.

Docket No.: M-2005-024-C.

FR Notice: 70 FR 19506.

Petitioner: Ohio County Coal.

Regulation Affected: 30 CFR 75.1101-1(b).

Summary of Findings: Petitioner's proposal is to have a person trained in testing procedures specific to the deluge-type water spray fire suppression system to conduct a visual examination of the deluge-type water spray fire suppression systems; to conduct a functional test by actuating the system and observing its performance; and to record the results of the examination and functional test in a book that will be maintained on the surface and made available to the authorized representative of the Secretary. This is considered an acceptable alternative method for the Big Run Mine. MSHA grants the petition for modification for the deluge-type water spray systems installed at belt-conveyor drives in lieu of blow-off dust covers for nozzles at the Big Run Mine with conditions.

Docket No.: M-2005-026-C.

FR Notice: 70 FR 22376.

Petitioner: Spartan Mining Company.

Regulation Affected: 30 CFR 75.1002.

Summary of Findings: Petitioner's proposal is to use a 2,400-volt power center to power a continuous miner with high-voltage trailing cables inby the last open crosscut and within 150 feet of pillar workings. This is considered an acceptable alternative method for the Scotch Pine Mine and Midway Mine. MSHA grants the petition for modification for the use of the 2,400-volt high-voltage continuous miner(s) at the Scotch Pine Mine and Midway Mine with conditions.

Docket No.: M-2005-027-C.

FR Notice: 70 FR 22376.

Petitioner: Aracoma Coal Company.

Regulation Affected: 30 CFR 75.1909(b)(6).

Summary of Findings: Petitioner's proposal is to use one six-wheel Getman Roadbuilder grader, Model RDG-1504A, serial number 6782 without front brakes, as it was originally designed. The grader is equipped with dual brake systems on the four (4) rear wheels and designed to prevent loss of braking due to a single component failure. The petitioner will provide training to grader operators on how to lower the moldboard for additional stopping capability in emergencies; to recognize the appropriate speeds to use on different roadway conditions; and to limit the maximum speed of the grader to 10 miles per hour. This is considered an acceptable alternative method for the Aracoma Alma #1 Mine. MSHA grants the petition for modification for the Aracoma Alma #1 Mine with conditions.

Docket No.: M-2005-033-C.

FR Notice: 70 FR 28321.

Petitioner: Coulterville Coal Company, LLC.

Regulation Affected: 30 CFR 75.1909(b)(6).

Summary of Findings: Petitioner's proposal is to use one six-wheel Getman Roadbuilder grader, Model RDG-1504S, serial number 6739 without front brakes, as it was originally designed. The grader is equipped with dual brake systems on the four (4) rear wheels and designed to prevent loss of braking due to a single component failure. The petitioner will provide training to grader operators on how to limit the maximum speed of the Roadbuilder to 10 miles per hour by permanently blocking out any gear that would provide higher speed, or use transmission and differential ratios that would limit the maximum speed to 10 miles per hour; to recognize the appropriate speeds to use on different roadway conditions and slopes; and to lower the grader blade for additional stopping capability in emergencies. This is considered an acceptable alternative method for the Gateway Mine. MSHA grants the petition for modification for the Gateway Mine with conditions.

Docket No.: M-2004-009-M.

FR Notice: 69 FR 69415.

Petitioner: Unimin Corporation.

Regulation Affected: 30 CFR 56.13020.

Summary of Findings: Petitioner's proposal is to implement a clothes cleaning booth process that has been jointly developed with and successfully tested by the National Institute for Occupational Safety and Health (NIOSH), for the use of controlled compressed air for cleaning miners' dust laden clothing. This is considered an acceptable alternative method for the Marston Plant Mine. MSHA grants the petition for modification for only miners who are trained in the operation of the NIOSH tested clothes cleaning booth for cleaning their dust-laden clothes at the Marston Plant Mine with conditions.

[FR Doc. 05-17003 Filed 8-25-05; 8:45 am]

BILLING CODE 4510-43-P